DEPARTMENT OF THE INTERIOR

National Park Service

[NPS-WASO-NAGPRA-NPS0037759; PPWOCRADN0-PCU00RP14.R50000]

Notice of Inventory Completion: Boston Children's Museum, Boston, MA

AGENCY: National Park Service, Interior.

ACTION: Notice.

SUMMARY: In accordance with the Native American Graves Protection and Repatriation Act (NAGPRA), Boston Children's Museum has completed an inventory of human remains and associated funerary objects and has determined that there is a cultural affiliation between the human remains and associated funerary objects and Indian Tribes or Native Hawaiian organizations in this notice.

DATES: Repatriation of the human remains and associated funerary objects in this notice may occur on or after May 16, 2024.

ADDRESSES: Melissa Higgins, Vice President of Programs & Exhibits, Boston Children's Museum, 308 Congress Street, Boston, MA 02201, telephone (617) 986-3692, email higgins@bostonchildrensmuseum.org.

SUPPLEMENTARY INFORMATION: This notice is published as part of the National Park Service's administrative responsibilities under NAGPRA. The determinations in this notice are the sole responsibility of Boston Children's Museum, and additional information on the determinations in this notice, including the results of consultation, can be found in the inventory or related records. The National Park Service is not responsible for the determinations in this notice.

Abstract of Information Available

Based on the information available, human remains representing partial skeletons of at least two individuals have been reasonably identified. The two lots of associated funerary objects include Pottery Sherds, Flint Flake, Carbonized Beans, and Animal Bones. Remains and associated funerary objects were donated in 1969 by Dr. Jack Calvert, who was involved in archeological digs as part of the work of James Tuck in 1965-1967. The Remains and associated funerary objects are believed to have been removed from New York State as part of these digs. Accession records note them originating from the Cabin Site (tly 1-1), though there is a possibility that they originated from one of several sites in the area. Due to geographic origin, the remains are reasonably believed to be culturally affiliated with the Onondaga Nation. There is no documentation of hazardous substances being used to treat these individuals or materials.

Cultural Affiliation

Based on the information available and the results of consultation, cultural affiliation is reasonably identified by the geographical location or acquisition history of the human remains and associated funerary objects described in this notice.

Determinations

Boston Children's Museum has determined that:

• The human remains described in this notice represent the physical partial skeletal remains of two individuals of Native American ancestry.

• The two lots of objects described in this notice are reasonably believed to have been placed intentionally with or near individual human remains at the time of death or later as part of the death rite or ceremony.

• There is a reasonable connection between the human remains and associated funerary objects described in this notice and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 16, 2024. If competing requests for repatriation are received, the Boston Children's Museum must determine the most appropriate requestor prior to repatriation. Requests for joint repatriation of the human remains and associated funerary objects are considered a single request and not competing requests. The Boston Children's Museum is responsible for sending a copy of this notice to the Indian Tribes and Native Hawaiian organizations identified in this notice.

Authority: Native American Graves Protection and Repatriation Act, 25 U.S.C. 3003, and the implementing regulations, 43 CFR 10.10.

Dated: April 9, 2024.
Melanie O'Brien,
Manager, National NAGPRA Program.

[FR Doc. 2024-08046 Filed 4-15-24; 8:45 am]

BILLING CODE 4312-52-P